DEPARTMENT OF COMMERCE

International Trade Administration

[A-570-887]

Notice of Antidumping Duty Order: Tetrahydrofurfuryl Alcohol From The People's Republic of China

AGENCY: Import Administration, International Trade Administration, Department of Commerce.

SUMMARY: Pursuant to section 736(a) of the Tariff Act of 1930, as amended, the Department of Commerce (“the Department”) is issuing an antidumping duty order on Tetrahydrofurfuryl Alcohol from The People's Republic of China.

EFFECTIVE DATE: August 6, 2004.

FOR FURTHER INFORMATION CONTACT: Catherine Bertrand, Import Administration, International Trade Administration, U.S. Department of Commerce, 14th Street and Constitution Avenue, NW., Washington, DC 20230; telephone: (202) 482-3207.

Scope of Order

The product covered by this order is tetrahydrofurfuryl alcohol (C5H10O2) (“THFA”). THFA, a primary alcohol, is a clear, water white to pale yellow liquid. THFA is a member of the heterocyclic compounds known as furans and is miscible with water and soluble in many common organic solvents. THFA is currently classifiable in the Harmonized Tariff Schedules of the United States (“HTSUS”) under subheading 2932.13.00.00. Although the HTS subheadings are provided for convenience and for customs purposes, the Department's written description of the merchandise subject to the order is dispositive.

Background

In accordance with section 735(a) of the Act, the Department made its final determination that THFA from the People's Republic of China (“PRC”) is being sold at less than fair value. See Notice of Final Determination of Sales at Less Than Fair Value: Tetrahydrofurfuryl Alcohol From The People's Republic of China, 69 FR 34130 (June 18, 2004).

Antidumping Duty Order

On July 29, 2004, in accordance with section 735(d) of the Act, the International Trade Commission (“the Commission”) notified the Department of its final determination pursuant to section 735(b)(1)(A)(i) of the Act that an industry in the United States is materially injured by reason of less-than-fair-value imports of subject merchandise from the PRC. Therefore, in accordance with section 736(a)(1) of the Act, the Department will direct U.S. Customs and Border Protection (“CBP”) to assess, upon further instruction by the Department, antidumping duties equal to the amount by which the normal value of the merchandise exceeds the export price of the merchandise for all relevant entries of THFA from the PRC. These antidumping duties will be assessed on all unliquidated entries of THFA from the PRC entered, or withdrawn from the warehouse, for consumption on or after January 27, 2004, the date on which the Department published its Notice of Preliminary Determination of Sales at Less Than Fair Value: Tetrahydrofurfuryl Alcohol From The People's Republic of China, 69 FR 3887 (January 27, 2004).

Section 733(d) of the Act states that instructions issued pursuant to an affirmative preliminary determination may not remain in effect for more than four months except where exporters representing a significant proportion of exports of the subject merchandise request the Department to extend that four-month period to no more than six months. At the request of exporters that account for a significant proportion of THFA, we extended the four-month period to no more than six months. See Notice of Postponement of Final Determination of Antidumping Duty Investigation: Tetrahydrofurfuryl Alcohol From The People's Republic of China, 69 FR 12127 (March 15, 2004). In this investigation, the six-month period beginning on the date of the publication of the preliminary determination ends on July 27, 2004. Furthermore, section 737 of the Act states that definitive duties are to begin on the date of publication of the ITC's final injury determination. Therefore, in accordance with section 733(d) of the Act and our practice, we will instruct CBP to terminate the suspension of liquidation and to liquidate, without regard to antidumping duties, unliquidated entries of THFA from the PRC entered, or withdrawn from warehouse, for consumption on or after July 27, 2004, and before the date of publication of the ITC's final injury determination in the Federal Register. Suspension of liquidation will continue on or after this date.

On or after the date of publication of the Commission's notice of final determination in the Federal Register, CBP will require, at the same time as importers would normally deposit estimated duties on this merchandise, a cash deposit equal to the estimated weighted-average antidumping duty margins as listed below. The “PRC-wide” rate applies to all exporters of subject merchandise not specifically listed. The weighted-average dumping margins are as follows:

Manufacturer/exporter | Weighted-average margin (percent)
Qingdao Wenkem (F.T.Z.) Trading Co., Ltd | 136.86
PRC-Wide | 136.86

This notice constitutes the antidumping duty order with respect to THFA from the PRC pursuant to section 735(a) of the Act. Interested parties may contact the Department's Central Records Unit, Room B-099 of the main Commerce building, for copies of an updated list of antidumping duty orders currently in effect.

This order is published in accordance with section 736(a) of the Act and 19 CFR 351.211.

Dated: August 2, 2004.
Joseph A. Spetrini,
Acting Assistant Secretary for Import Administration.

[FR Doc. 04-18041 Filed 8-5-04; 8:45 am]

BILLING CODE 3510-DS-P